DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: Paul Gardner, Bloomsburg, PA, PRT-039151

The applicant requests a permit to import the sport-hunted trophy of one male bontebok (Damaliscus pygargus dorcas) culled from a captive herd maintained under the management program of the Republic of South Africa, for the purpose of enhancement of the survival of the species.

Applicant: Housni Habibi, West Hempstead, NY, PRT-039149

The applicant requests a permit to import the sport-hunted trophy of one male bontebok (Damaliscus pygargus dorcas) culled from a captive herd maintained under the management program of the Republic of South Africa, for the purpose of enhancement of the survival of the species.

Applicant: Michael Ciavardone, Lakeland, FL, PRT-039124

The applicant requests a permit to import the sport-hunted trophy of one male bontebok (Damaliscus pygargus dorcas) culled from a captive herd maintained under the management program of the Republic of South Africa, for the purpose of enhancement of the survival of the species.

Applicant: James Benham, Boise, ID, PRT-039268

The applicant requests a permit to import the sport-hunted trophy of one male bontebok (Damaliscus pygargus dorcas) culled from a captive herd maintained under the management program of the Republic of South Africa, for the purpose of enhancement of the survival of the species.

Applicant: Armand Bertocchi, Denville, NJ, PRT-039380

The applicant requests a permit to import the sport-hunted trophy of one male bontebok (Damaliscus pygargus dorcas) culled from a captive herd maintained under the management program of the Republic of South Africa, for the purpose of enhancement of the survival of the species.

Applicant: John Shivers, Fort Worth, TX, PRT-039379

The applicant requests a permit to import the sport-hunted trophy of one male bontebok (Damaliscus pygargus dorcas) culled from a captive herd maintained under the management program of the Republic of South Africa, for the purpose of enhancement of the survival of the species.

Applicant: Eli Robert Huffman, Houston, TX, PRT-039425

The applicant requests a permit to import the sport-hunted trophy of one male bontebok (Damaliscus pygargus dorcas) culled from a captive herd maintained under the management program of the Republic of South Africa, for the purpose of enhancement of the survival of the species.

Applicant: Northern Animal Exchange dba Action Animals, British Columbia, Canada, PRT-770742

The applicant is requesting to have their permit amended to include for import and re-export a captive born Siberian tiger (Panthera tigris altaica) and progeny of the animal currently held by the applicant and any animals acquired in the United States by the applicant to/from worldwide locations to enhance the survival of the species through conservation education. This notification covers activities conducted by the applicant over a three year period.

Applicant: Lawrence Masserant, Newport, MI, PRT-037808

The applicant requests a permit to import a wood bison (Bison bison athabascae) sport hunted in Yukon, Canada, for the purpose of enhancement of the survival of the species.

Applicant: Russell Kohler, Detroit, MI, PRT-038081

The applicant requests a permit to import a wood bison (Bison bison athabascae) sport hunted in Yukon, Canada, for the purpose of enhancement of the survival of the species.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18).

Written data, comments or requests for copies of these complete applications or requests for a public hearing on these applications should be sent to the U.S. Fish and Wildlife Service, Division of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

Applicant: Circo Hermanos Suarez S.A., San Juan, PR, PRT-036843.

Permit Type: Import for public display.

Name and Number of Animals: Polar bear, (Ursus maritimus) 7

Summary of Activity to be Authorized: The applicant requests to import for Public Display purposes.

Source of Marine Mammals: Captive and wild born.

Period of Activity: 5 years.

Applicant: United States Fish and Wildlife Service/Marine Mammal Management, Anchorage, AK PRT-039386.

Permit Type: Take for scientific research.

Name and Number of Animals: Walrus, (Odobenus rosmarus divergens), Variable

Summary of Activity to be Authorized: The applicant requests a permit to conduct aerial fly overs of walrus hauled-out on sea ice, that may result in Level B harassment, for the purpose of developing new survey techniques using ventricle digital video imagery.

Source of Marine Mammals: Free ranging.

Period of Activity: 5 years.

Concurrent with the publication of this notice in the Federal Register, the Division of Management Authority is forwarding copies of the above applications to the Marine Mammal Commission and the Committee of Scientific Advisors for their review.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); FAX: (703/358-2281).

Dated: February 23, 2001.
Anna Barry,
Branch of Permits, Division of Management Authority.

[FR Doc. 01-5413 Filed 3-5-01; 8:45 am]

BILLING CODE 4310-55-P